DEPARTMENT OF TRANSPORTATION

Federal Aviation Administration

14 CFR Part 97

[Docket No. 30607; Amdt. No 3268]

Standard Instrument Approach Procedures, and Takeoff Minimums and Obstacle Departure Procedures; Miscellaneous Amendments

AGENCY: Federal Aviation Administration (FAA), DOT.

ACTION: Final rule.

SUMMARY: This Rule establishes, amends, suspends, or revokes STANDARD Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 14, 2008. The compliance date for each SIAP, associated Takeoff Minimums, and ODP is specified in the amendatory provisions.

The incorporation by reference of certain publications listed in the regulations is approved by the Director of the Federal Register as of May 14, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. This, the advantages of incorporation by reference are realized and publication of the complete description of each SIAP, Takeoff Minimums and ODP listed on FAA forms is unnecessary. This amendment provides the affected CFR sections and specifies the types of SIAPs and the effective dates of the, Associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule “ under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 2, 2008.
James J. Ballough,
Director, Flight Standards Service.

Adoption of the Amendment

Accordingly, pursuant to the authority delegated to me, Under Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 5 JUN 2008

Blytheville, AR, Blytheville Muni, RNAV (GPS) RWY 18, Orig

Blytheville, AR, Blytheville Muni, RNAV (GPS) RWY 36, Orig

Blytheville, AR, Blytheville Muni, NDB RWY 18, Amdt 3

Blytheville, AR, Blytheville Muni, GPS RWY 36, Orig-A, CANCELLED

Blytheville, AR, Blytheville Muni, Takeoff and Minimums and Obstacle DP, Orig

Carlisle, AR, Carlisle Muni, RNAV (GPS) RWY 9, Orig

Carlisle, AR, Carlisle Muni, RNAV (GPS) RWY 27, Orig

Carlisle, AR, Carlisle Muni, GPS RWY 9, Amdt 1A, CANCELLED

Carlisle, AR, Carlisle Muni, Takeoff Minimums and Obstacle DP, Orig

Conway, AR, Dennis R. Cantrell Field, Takeoff Minimums and Obstacle DP, Amdt 1

Mena, AR, Intermountain Muni, ILS OR LOC RWY 27, Amdt 1

Mena, AR, Intermountain Muni, NDB RWY 27, Amdt 1

Hollister, CA, Hollister Muni, RNAV (GPS) RWY 31, Orig

Hollister, CA, Hollister Muni, GPS RWY 31, Amdt 1, CANCELLED

Hollister, CA, Hollister Muni, Takeoff Minimums and Obstacle DP, Amdt 1

Hazlehurst, GA, Hazlehurst, Takeoff Minimums and Obstacle DP, Orig

Agana, Guam, Guam Intl, ILS OR LOC RWY 6R, Orig

Decorah, IA, Decorah Muni, NDB RWY 29, Amdt 1

Decorah, IA, Decorah Muni, Takeoff Minimums and Obstacle DP, Amdt 1

Grinnell, IA, Grinnell Rgnl, RNAV (GPS) RWY 13 Amdt 1

Grinnell, IA, Grinnell Rgnl, RNAV (GPS) RWY 31, Amdt 1

Grinnell, IA, Grinnell Rgnl, NDB RWY 13, Amdt 4

Grinnell, IA, Grinnell Rgnl, VOR/DME RWY 31, Amdt 4

Grinnell, IA, Grinnell Rgnl, Takeoff Minimums and Obstacle DP, Amdt 1

Arco, ID, Arco-Butte County, Takeoff Minimums and Obstacle DP, Amdt 1

Grangeville, ID, Idaho County, Takeoff Minimums and Obstacle DP, Amdt 1

Goshen, IN, Goshen Muni, ILS OR LOC RWY 27, Amdt 1

Goshen, IN, Goshen Muni, RNAV (GPS) RWY 27, Orig

Goshen, IN, Goshen Muni, VOR RWY 27, Amdt 7

Goshen, IN, Goshen Muni, Takeoff Minimums and Obstacle DP, Orig

Indianapolis, IN, Hendricks County-Gordon Graham Fld, RNAV (GPS) RWY 18, Orig

Indianapolis, IN, Hendricks County-Gordon Graham Fld, Takeoff Minimums and Obstacle DP, Orig

Ulyssess, KS, Ulyssess, RNAV (GPS) RWY 12, Amdt 1

Ulyssess, KS, Ulyssess, RNAV (GPS) RWY 30, Amdt 1

Baton Rogue, LA, Baton Rogue Metro, Ryan Field, ILS OR LOC RWY 22R, Amdt 10

Homer, LA, Homer Muni, RNAV (GPS) RWY 12, AMDT 1

Homer, LA, Homer Muni, RNAV (GPS) RWY 30, AMDT 1

Homer, LA, Homer Muni, Takeoff Minimums and Obstacle DP, Orig

New Roads, LA, False River Rgnl, RNAV (GPS) RWY 18, Orig

New Roads, LA, False River Rgnl, RNAV (GPS) RWY 36, Orig

New Roads, LA, False River Rgnl, VOR/DME-A, Amdt 4

New Roads, LA, False River Rgnl, GPS RWY 18, Orig-A, CANCELLED

New Roads, LA, False River Rgnl, Takeoff Minimums and Obstacle DP, Orig

Oakland, MD, Garrett County, VOR RWY 27, Amdt 4

Detroit, MI, Detroit Metropolitan Wayne County, NDB RWY 3L, Amdt 12D, CANCELLED

Oscoda, MI, Oscoda-Wurtsmith, RNAV (GPS) RWY 6, Orig

Oscoda, MI, Oscoda-Wurtsmith, VOR RWY 6, Amdt 1

Oscoda, MI, Oscoda-Wurtsmith, Takeoff Minimums and Obstacle DP, Orig

Ainsworth, NE, Ainsworth Muni, RNAV (GPS) RWY 13, Orig

Ainsworth, NE, Ainsworth Muni, RNAV (GPS) RWY 17, Amdt 1

Ainsworth, NE, Ainsworth Muni, RNAV (GPS) RWY 31, Orig

Ainsworth, NE, Ainsworth Muni, RNAV (GPS) RWY 35, Amdt 1

Ainsworth, NE, Ainsworth Muni, Takeoff Minimums and Obstacle DP, Orig

Columbus, NE, Columbus Muni, VOR RWY 14, Amdt 14A

Cozad, NE, Cozad Muni, RNAV (GPS) RWY 13, Amdt 1

Cozad, NE, Cozad Muni, RNAV (GPS) RWY 31, Amdt 1

Cozad, NE, Cozad Muni, Takeoff Minimums and Obstacle DP, Amdt 1

Nebraska City, NE, Nebraska City Muni, RNAV (GPS) RWY 15, Orig

Nebraska City, NE, Nebraska City Muni, RNAV (GPS) RWY 33, Orig

Nebraska City, NE, Nebraska City Muni, GPS RWY 33, Amdt 1, CANCELLED

Nebraska City, NE, Nebraska City Muni, Takeoff and Minimums and Obstacle DP, Orig

Plattsmouth, NE, Plattsmouth Muni, RNAV (GPS) RWY 16, Amdt 1

Plattsmouth, NE, Plattsmouth Muni, RNAV (GPS) RWY 34, Amdt 1

Plattsmouth, NE, Plattsmouth Muni, NDB RWY 34 Amdt 1

Portsmouth, NH, Portsmouth Intl at Pease, RADAR-1, Amdt 1

Andover, NJ, Aeroflex-Andover, VOR-A, Amdt 8

Andover, NJ, Aeroflex-Andover, RNAV (GPS) RWY 3, Amdt 1

Albuquerque, NM, Albuquerque Intl Sunport, Takeoff Minimums and Obstacle DP, Amdt 5

Olean, NY, Cattaraugus County-Olean, LOC RWY 22, Amdt 6

Cleveland, OH, Cleveland-Hopkins Intl, ILS OR LOC RWY 6R, Amdt 20

Cleveland, OH, Cleveland-Hopkins Intl, LDA/DME RWY 6R, Amdt 1

Cleveland, OH, Cleveland-Hopkins Intl, RNAV (GPS) RWY 6R, Amdt 2

Delaware, OH, Delaware Muni, RNAV (GPS) RWY 10, Orig

Delaware, OH, Delaware Muni, RNAV (GPS) RWY 28, Orig

Delaware, OH, Delaware Muni, GPS RWY 10, Orig-A, CANCELLED

Delaware, OH, Delaware Muni, GPS RWY 28, Orig-A, CANCELLED

Springfield, OH, Springfield-Beckley Muni, VOR RWY 24, Amdt 11

Springfield, OH, Springfield-Beckley Muni, VOR/DME RWY 33, Orig

Springfield, OH, Springfield-Beckley Muni, ILS OR LOC RWY 24, Amdt 1

Hinton, OK, Hinton, Muni, RNAV (GPS) RWY 17, Amdt 1

Hinton, OK, Hinton, Muni, RNAV (GPS) RWY 35, Amdt 1

Hinton, OK, Hinton, Muni, Takeoff and Minimums and Obstacle DP, Orig

Tahlequah, OK, Tahlequah Muni, RNAV (GPS) RWY 17, Amdt 1

Tahlequah, OK, Tahlequah Muni, RNAV (GPS) RWY 35, Amdt 1

Tahlequah, OK, Tahlequah Muni, Takeoff Minimums and Obstacle DP, Amdt 1

Dubois, PA, Dubois Regional, ILS OR LOC RWY 25, Amdt 8

Dubois, PA, Dubois Regional, RNAV (GPS) RWY 25, Orig

Reedsville, PA, Mifflin County, Takeoff Minimums and Obstacle DP, Amdt 3

Somerset, PA, Somerset County, NDB RWY 25, Amdt 6

Somerset, PA, Somerset County, LOC/NDB RWY 25, Amdt 4

Waynesburg, PA, Greene County, RNAV (GPS) RWY 9, Orig

Waynesburg, PA, Greene County, RNAV (GPS) RWY 27, Orig

Smithville, TN, Smithville Muni, RNAV (GPS) RWY 6, Amdt 1

Smithville, TN, Smithville Muni, RNAV (GPS) RWY 24, Amdt 1

Smithville, TN, Smithville Muni, Takeoff Minimums and Obstacle DP, Orig

Angleton/Lake Jackson, TX, Brazoria County, Takeoff and Minimums and Obstacle DP, Amdt 1

Brownsville, TX, Brownsville/South Padre Island Intl, RNAV (GPS) RWY 13R, Amdt 1

Galveston, TX, Scholes Intl at Galveston, Takeoff and Minimums and Obstacle DP, Amdt 4

Houston, TX, David Wayne Hooks Memorial, Takeoff and Minimums and Obstacle DP, Amdt 3

Houston, TX, Ellington Field, RNAV (GPS) RWY 4, Amdt 1

Houston, TX, Ellington Field, Takeoff and Minimums and Obstacle DP, Amdt 2

Houston, TX, George Bush Intercontinental/Houston, ILS OR LOC RWY 8L, ILS RWY 8L (CAT II), ILS RWY 8L (CAT III), Amdt 1A

Houston, TX, George Bush Intercontinental/Houston, ILS OR LOC RWY 8R, Amdt 22B

Houston, TX, George Bush Intercontinental/Houston, ILS OR LOC RWY 9, Amdt 7A

Houston, TX, George Bush Intercontinental/Houston, ILS OR LOC RWY 15R, Amdt 1A

Houston, TX, George Bush Intercontinental/Houston, ILS OR LOC RWY 26L, ILS RWY 26L (CAT II), ILS RWY 26L (CAT III), Amdt 18A

Houston, TX, George Bush Intercontinental/Houston, ILS OR LOC RWY 26R, ILS RWY 26R (CAT II), ILS RWY 26R (CAT III), Amdt 1A

Houston, TX, George Bush Intercontinental/Houston, ILS OR LOC RWY 27, ILS RWY 27 (CAT II), ILS RWY 27 (CAT III), Amdt 6A

Houston, TX, George Bush Intercontinental/Houston, RNAV (GPS) RWY 15R, Amdt 1A

Houston, TX, George Bush Intercontinental/Houston, RNAV (GPS) Z RWY 8L, Amdt 2

Houston, TX, George Bush Intercontinental/Houston, RNAV (GPS) Z RWY 8R, Amdt 1A

Houston, TX, George Bush Intercontinental/Houston, RNAV (GPS) Z RWY 9, Amdt 2A

Houston, TX, George Bush Intercontinental/Houston, RNAV (GPS) Z RWY 26L, Amdt 1A

Houston, TX, George Bush Intercontinental/Houston, RNAV (GPS) Z RWY 26R, Amdt 1A

Houston, TX, George Bush Intercontinental/Houston, RNAV (GPS) Z RWY 27, Amdt 1A

Houston, TX, George Bush Intercontinental/Houston, Takeoff and Minimums and Obstacle DP, Amdt 2

Houston, TX, Houston-Southwest, Takeoff and Minimums and Obstacle DP, Amdt 5

Houston, TX, Lone Star Executive, Takeoff and Minimums and Obstacle DP, Amdt 2

Houston, TX, Sugar Land Rgnl, Takeoff and Minimums and Obstacle DP, Amdt 7

Houston, TX, Weiser Air Park, Takeoff and Minimums and Obstacle DP, Amdt 2

Houston, TX, West Houston, Takeoff and Minimums and Obstacle DP, Amdt 2

Houston, TX, William P. Hobby, Takeoff and Minimums and Obstacle DP, Amdt 5

La Porte, TX, La Porte Muni, Takeoff and Minimums and Obstacle DP, Amdt 4

Louisa, VA, Louisa County/Freeman Field, LOC/DME RWY 27, Amdt 2

Charlotte Amalie, VI, Cyril E King, Takeoff Minimums and Obstacle DP, Amdt 1

Appleton, WI, Outagamie County Rgnl, LOC BC RWY 11, Amdt 1B, CANCELLED

Ashland, WI, John F. Kennedy Memorial, RNAV (GPS) RWY 2, Orig

Ashland, WI, John F. Kennedy Memorial, RNAV (GPS) RWY 13, Orig

Ashland, WI, John F. Kennedy Memorial, RNAV (GPS) RWY 20, Orig

Ashland, WI, John F. Kennedy Memorial, RNAV (GPS) RWY 31, Orig

Ashland, WI, John F. Kennedy Memorial, VOR RWY 2, Amdt 6

Ashland, WI, John F. Kennedy Memorial, VOR RWY 31, Amdt 7

Ashland, WI, John F. Kennedy Memorial, Takeoff and Minimums and Obstacle DP, Amdt 1

La Pointe, WI, Madeline Island, RNAV (GPS) RWY 4, ORIG

La Pointe, WI, Madeline Island, RNAV (GPS) RWY 22, ORIG

La Pointe, WI, Madeline Island, Takeoff and Minimums and Obstacle DP, Orig

Lone Rock, WI, Tri-County Rgnl, RNAV (GPS) RWY 9, Orig

Lone Rock, WI, Tri-County Rgnl, RNAV (GPS) RWY 27, Orig

Lone Rock, WI, Tri-County Rgnl, VOR-A, Amdt 7

Oshkosh, WI, Wittman Rgnl, RNAV (GPS) RWY 9, Orig

Oshkosh, WI, Wittman Rgnl, RNAV (GPS) RWY 18, Orig

Oshkosh, WI, Wittman Rgnl, RNAV (GPS) RWY 27, Orig

Oshkosh, WI, Wittman Rgnl, VOR RWY 9, Amdt 9

Oshkosh, WI, Wittman Rgnl, VOR RWY 18, Amdt 7

Oshkosh, WI, Wittman Rgnl, GPS RWY 27 Orig-A, CANCELLED

Oshkosh, WI, Wittman Rgnl, Takeoff and Minimums and Obstacle DP, Orig

* * * Effective 3 JUL 2008

Warroad, MN, Warroad Intl Memorial, ILS OR LOC RWY 31, Amdt 1A

Rome, NY, Griffiss Airfield, Rome, NY, Takeoff Minimums and Obstacle DP, Orig

[FR Doc. E8-10546 Filed 5-13-08; 8:45 am]

BILLING CODE 4910-13-P